DEPARTMENT OF HOMELAND SECURITY

National Communications System

Telecommunications Service Priority System Oversight Committee

AGENCY: National Communications System (NCS), Department of Homeland Security.

ACTION: Notice of meeting.

A meeting of the Telecommunications Service Priority (TSP) System Oversight Committee will convene Tuesday, November 9, 2004, from 9 a.m. to 12 noon. The meeting will be held at 701 South Courthouse Road, Arlington, VA in the NCS conference room on the 2nd floor.

—TSP Program Update

—TSP Revalidation Update

—PSWG Update

Anyone interested in attending or presenting additional information to the Committee, please contact Susan Flint, Office of Priority Telecommunications, (703) 607-4932. Media or Press must contact Mr. Steve Barrett (703) 607-6211.

Peter M. Fonash,
Certifying Officer.

[FR Doc. 04-22631 Filed 10-7-04; 8:45 am]

BILLING CODE 4410-10-M